DEPARTMENT OF COMMERCE

National Oceanic and Atmospheric Administration

[I.D. 081700C]

Marine Mammals; File No. 779-1339-02

AGENCY: National Marine Fisheries Service (NMFS), National Oceanic and Atmospheric Administration (NOAA), Commerce.

ACTION: Issuance of permit amendment.

SUMMARY: Notice is hereby given that Southeast Fisheries Science Center, National Marine Fisheries Service, 75 Virginia Beach Drive, Miami, FL 33149 (Principal Investigator: Dr. Keith D. Mullin) has been issued an amendment to scientific research Permit No. 779-1339.

ADDRESSES: The amendment and related documents are available for review upon written request or by appointment in the following office(s):

Permits and Documentation Division, Office of Protected Resources, NMFS, 1315 East-West Highway, Room 13705, Silver Spring, MD 20910 (301/713-2289);

Regional Administrator, Southeast Region, NMFS, 9721 Executive Center Drive North, St. Petersburg, FL 33702-2432 (813/570-5312); and

Regional Administrator, Northeast Region, NMFS, One Blackburn Drive, Gloucester, MA 01930, (978/281-9250).

FOR FURTHER INFORMATION CONTACT: Ruth Johnson or Simona Roberts, 301/713-2289.

SUPPLEMENTARY INFORMATION: On July 11, 2000, notice was published in the Federal Register (65 FR 42676) that an amendment of Permit No. 779-1339, issued July 8, 1997 (62 FR 38069), had been requested by the above-named organization. The requested amendment has been granted under the authority of the Marine Mammal Protection Act of 1972, as amended (16 U.S.C. 1361 et seq.) and the Regulations Governing the Taking and Importing of Marine Mammals (50 CFR part 216).

Permit 779-1339 authorized the Holder to: (1) harass cetaceans for the purpose of estimating abundance, collecting behavioral data, photography and biopsy sampling, and (2) collect and import biopsy tissue samples taken with a projectile dart from cetaceans. The amendment increased the number of animals that could be biopsy sampled annually.

Issuance of this amendment, as required by the ESA, was based on a finding that such permit (1) was applied for in good faith, (2) will not operate to the disadvantage of the endangered species which is the subject of this permit, and (3) is consistent with the purposes and policies set forth in section 2 of the ESA.

Dated: September 7, 2000.
Ann D. Terbush,
Chief, Permits and Documentation Division, Office of Protected Resources, National Marine Fisheries Service.

[FR Doc. 00-23534 Filed 9-12-00; 8:45 am]

BILLING CODE 3510-22-S